DEPARTMENT OF AGRICULTURE

Rural Utilities Service

Rural Broadband Access Loans and Loan Guarantees Program

AGENCY: Rural Utilities Service, USDA.

ACTION: Notice of Solicitation of Applications (NOSA).

SUMMARY: The Rural Utilities Service (RUS), an agency of the United States Department of Agriculture (USDA), announces that it is accepting applications for fiscal year (FY) 2016 for the Rural Broadband Access Loan and Loan Guarantee program (the Broadband Program).

In addition to announcing the application window, RUS announces the minimum and maximum amounts for broadband loans for FY 2016.

DATES: Applications under this NOSA will be accepted immediately and must be submitted through the Agency's online application system no later than July 7, 2016 to be eligible for FY 2016 broadband loan funding. Applications are subject to the requirements of the interim final regulation published in the Federal Register at Vol. 80, No. 146 on Thursday, July 30, 2015.

FOR FURTHER INFORMATION CONTACT: For further information contact Shawn Arner, Deputy Assistant Administrator, Loan Originations and Approval Division, Rural Utilities Service, STOP 1597, 1400 Independence Avenue SW., Washington, DC 20250-1597, Telephone: (202) 720-0800, or email: Shawn.Arner@wdc.usda.gov.

SUPPLEMENTARY INFORMATION:

General Information

The Rural Broadband Access Loan and Loan Guarantee Program (the Broadband Program) is authorized by the Rural Electrification Act (7 U.S.C. 901 et seq.), as amended by the Agricultural Act of 2014 (Pub. L. 113-79) also referred to as the 2014 Farm Bill.

During FY 2016, loans will be made available for the construction, improvement, and acquisition of facilities and equipment to provide service at the broadband lending speed for eligible rural areas. Applications must be submitted in accordance with the interim final rule published July 30, 2015.

For questions about the requirements of completing an application please use the RUS contact listed in the FOR FURTHER INFORMATION CONTACT section of this notice.

Application requirements: All requirements for submission of an application under the Broadband Program have been set forth in the interim regulation published July 30, 2015.

Application Materials: Application materials for the Broadband Program are available at http://www.rd.usda.gov/programs-services/farm-bill-broadband-loans-loan-guarantees.

Application Submission: All applications must be submitted through the Agency's online application system located at http://www.rd.usda.gov/programs-services/rd-apply. Paper applications will not be accepted.

Minimum and Maximum Loan Amounts

Loans under this authority will not be made for less than $100,000. The maximum loan amount that will be considered for FY 2016 is $10,000,000.

Required Definitions for Broadband Program Regulation

The interim regulation for the Broadband Program requires that certain definitions affecting eligibility be revised and published from time to time by the agency in the Federal Register. For the purposes of this NOSA, the agency will be revising the definition of Broadband Service established therein, such that for applications under this window, existing Broadband Service shall mean the minimum rate-of-data transmission of ten megabits downstream and one megabit upstream for both fixed and mobile broadband service. On the other hand, the rate at which applicants must propose to offer new broadband service, the Broadband Lending Speed, will be a minimum bandwidth of ten megabits downstream and one megabit upstream for both fixed and mobile service to the customer.

Priority for Approving Loan Applications

Applications for FY 2016 will be accepted from April 8, 2016 through July 7, 2016. Although review of applications will start when they are submitted, all applications submitted by July 7, 2016, will be evaluated and ranked together on the basis of the number of unserved households in the proposed funded service area. Subject to available funding, eligible applications that propose to serve the most unserved households will receive funding offers before other eligible applications that have been submitted.

Applications will not be accepted after July 7, 2016, until a new funding window has been opened with the publication of an additional NOSA in the Federal Register.

Paperwork Reduction Act

In accordance with the Paperwork Reduction Act of 1995, the information collection requirements associated with Broadband loans, as covered in this NOSA, have been approved by the Office of Management and Budget (OMB) under OMB Control Number 0572-0130.

USDA Non-Discrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at http://www.ascr.usda.gov/complaint_filing_cust.html and at any USDA office or write a letter addressed to USDA and provide in the letter all of the information requested in the form. To request a copy of the complaint form, call (866) 632-9992. Submit your completed form or letter to USDA by:

(1) Mail: U.S. Department of Agriculture, Office of the Assistant Secretary for Civil Rights, 1400 Independence Avenue SW., Washington, DC 20250-9410;

(2) Fax: (202) 690-7442; or

(3) Email: program.intake@usda.gov.

USDA is an equal opportunity provider, employer, and lender.

Dated: March 30, 2016.
Brandon McBride,
Administrator, Rural Utilities Service.

[FR Doc. 2016-08040 Filed 4-7-16; 8:45 am]

BILLING CODE 3410-15-P